AGENCY FOR INTERNATIONAL DEVELOPMENT

USAID Injury/Illness Collection Form per the USAID Occupational Safety & Health (OHS) Program

AGENCY: Agency for International Development (USAID).

ACTION: Notice of information collection.

SUMMARY: In accordance with the Information Collection Review procedures of the Paperwork Reduction Act of 1995 (PRA), the United States Agency for International Development (USAID), is announcing that it has submitted a request to the Office of Management and Budget (OMB) for approval to collect information via Google Forms as per the USAID Occupational Safety & Health (OHS) program. This collection is mandated by the Occupational Safety and Health Administration under the OSH act of 1970 and Federal regulations.

DATES: If this request for approval is granted, USAID plans to collect performance data beginning on or about June 30, 2024 and expected to end June 30, 2029.

ADDRESSES: Comments may be submitted by any of the following methods:

Email: jscherer@usaid.gov

Mail: U.S. Agency for International Development, OSH, Room 5.9C RRB, 300 Pennsylvania Avenue, Washington DC 20523.

FOR FURTHER INFORMATION CONTACT: Requests for additional information should be directed to John Scherer, jscherer@usaid.gov, +1 (202) 712 1256.

SUPPLEMENTARY INFORMATION: The OSH Act of 1970 requires the Secretary of Labor to produce regulations that require employers to keep records of occupational deaths, injuries, and illnesses. Executive Order 12196 requires Federal establishments to, “Operate an occupational safety and health management information system, which shall include the maintenance of such records as the Secretary may require.”

The records are used for several purposes. Employers and employees use the records to implement safety and health programs at individual workplaces. Analysis of the data is a widely recognized method for discovering workplace safety and health problems and tracking progress in solving those problems. OSHA uses the injury and illness statistics to help direct its programs and measure its own performance. Also, individuals conducting safety and health evaluations and inspections use the data to help direct their efforts to the hazards that are hurting workers.

The rule, 29 CFR 1960.66, contains a “note” making it clear that recording or reporting a work-related injury, illness, or fatality does not constitute an admission that the Federal agency or an individual was at fault or otherwise responsible for purposes of liability. Such recording or reporting does not constitute an admission of the existence of an employer-employee relationship between the individual recording the injury and the injured individual. Recording or reporting any such injury, illness, or fatality does not mean that an OSHA rule has been violated or that the individual in question is eligible for workers' compensation or any other benefits.

Anthony Bennett,
Chief, Headquarters Management Division, Office of Management Services (M/MS), Bureau for Management, U.S. Agency for International Development.

[FR Doc. 2024-21938 Filed 9-24-24; 8:45 am]

BILLING CODE 6116-01-P